DEPARTMENT OF HEALTH AND HUMAN SERVICES

National Institutes of Health

Office of the Director, National Institutes of Health; Amended Notice of Meeting

Notice is hereby given of a change in the meeting of the Advisory Committee to the Director, National Institutes of Health, June 13, 2019, 09:00 a.m. to June 14, 2019, 01:00 p.m. National Institutes of Health, Building 1, Wilson Hall, 1 Center Drive, Bethesda, MD, 20892 which was published in the Federal Register on May 2, 2019, 84 FR 18854.

The meeting notice is amended to change the meeting end time on June 13, 2019 from 5:30 p.m. to 6:00 p.m. and the meeting end time on June 14, 2019 from 1:00 p.m. to 12:15 p.m. The meeting is open to the public.

Dated: May 16, 2019.
Natasha M. Copeland,
Program Analyst, Office of Federal Advisory Committee Policy.

[FR Doc. 2019-10612 Filed 5-21-19; 8:45 am]

BILLING CODE 4140-01-P